DEPARTMENT OF AGRICULTURE

Forest Service

Requests for Proposals: 2014 Statewide Wood Energy Teams Cooperative Agreement; and 2014 Wood to Energy Grant

AGENCY: U.S. Forest Service, USDA.

ACTION: Request for proposals.

SUMMARY: The U.S. Forest Service requests proposals for the following two separate funding opportunities that are being announced at the same time for administrative efficiency, but have separate and unique application criteria, requirements, and review processes:

(A) 2014 Statewide Wood Energy Teams (SWET) Cooperative Agreement, and

(B) 2014 Hazardous Fuel Wood to Energy (W2E) Grant.

The outcomes anticipated under these two separate funding mechanisms will advance the United States Department of Agriculture (USDA)'s initiative to expand wood energy use that supports forest management. These two funding opportunities enhance each other and collectively create opportunities for wood energy projects to access other USDA Rural Development programs. The SWET cooperative agreement helps communities do initial planning, educational outreach, and preliminary assessments to identify promising wood energy opportunities, whereas the W2E grant funds the design and other pre-construction needs for specific wood energy projects. Both of these funding programs promote use of woody biomass from National Forest System lands and place more emphasis this year on encouraging clustering of projects that improve efficiencies and economies of scale. The requirements for the cooperative agreement and grant applications are presented separately after the FOR FURTHER INFORMATION CONTACT section of this announcement. In the rare case that an applicant qualifies and would like to apply for both the cooperative agreement and grant, then the applicant must submit separate application packages according to the requirements for each funding opportunity.

DATES: Tuesday, May 20, 2014 at 11:59 p.m., is the application deadline for the SWET cooperative agreement. Tuesday, June 3, 2014 at 11:59 p.m., is the application deadline for the W2E grant.

Pre-Application Informational Webinar: The U.S. Forest Service will hold an informational Webinar on May 1, 2014 at 1:00 p.m. for SWET and 3:00 p.m. for W2E (both eastern time) to present these two funding opportunities and answer questions.

ADDRESSES: All applications must be submitted via email to the respective Forest Service Regional Biomass Coordinators listed below. These coordinators will be the point of contact for application submittals and final awards.

Forest Service Region 1, (MT, ND, Northern ID, & Northwestern SD), ATTN: Angela Farr, USDA Forest Service, Northern Region (R1), Federal Building, 200 East Broadway, Missoula, MT 59807, afarr@fs.fed.us, (406) 329-3521 | Forest Service Region 2 (CO, KS, NE, SD, & WY), ATTN: Mike Eckhoff, USDA Forest Service, Rocky Mountain Region (R2), 740 Simms St, Golden, CO 80401-4702, mike.eckhoff@colostate.edu, (970) 219-2140.
Forest Service Region 3 (AZ & NM), ATTN: Dennis Dwyer, USDA Forest Service, Southwestern Region (R3), 333 Broadway Blvd, SE, Albuquerque, NM 87102, ddwyer@fs.fed.us, (505) 842-3480 | Forest Service Region 4 (Southern ID, NV, UT, & Western WY), ATTN: Scott Bell, USDA Forest Service, Intermountain Region (R4), Federal Building, 324 25th St, Ogden, UT 84401, sbell@fs.fed.us, (801) 625-5259.
Forest Service Region 5 (CA, HI, Guam, and Trust Territories of the Pacific Islands), ATTN: Larry Swan, USDA Forest Service, Pacific Southwest Region (R5), 1323 Club Drive, Vallejo, CA 95492-1110, lswan01@fs.fed.us, (707) 562-8917 | Forest Service Region 6, (OR & WA), ATTN: Ron Saranich, USDA Forest Service, Pacific Northwest Region (R6), 1220 SW 3rd Ave, Portland, OR 97204, rsaranich@fs.fed.us, (503) 808-2346.
Forest Service Region 8 (AL, AR, FL, GA, KY, LA, MS, NC, OK, SC, TN, TX, VA, Virgin Islands, & Puerto Rico), ATTN: Dan Len, USDA Forest Service, Southern Region (R8), 1720 Peachtree Rd NW, Atlanta, GA 30309, dlen@fs.fed.us, (404) 347-4034 | Forest Service Region 9/Northeastern Area, (CT, DL, IL, IN, IA, ME, MD, MA, MI, MN, MO, NH, NJ, NY, OH, PA, RI, VT, WV, WI), ATTN: Lew McCreery, USDA Forest Service, Northeastern Area—S&PF, 180 Canfield St, Morgantown, WV 26505, lmccreery@fs.fed.us, (304) 285-1538.
Forest Service Region 10 (Alaska), ATTN: Daniel Parrent, USDA Forest Service, Alaska Region (R10), 161 East 1st Avenue, Door 8, Anchorage, AK 99501, djparrent@fs.fed.us, (907) 743-9467

FOR FURTHER INFORMATION CONTACT: Please direct questions regarding this announcement to the appropriate Forest Service Regional Biomass Coordinator listed in the table above or contact Ed Cesa (ecesa@fs.fed.us or 304-285-1530) or Steve Milauskas (smilauskas@fs.fed.us or 304-487-1510) at the Wood Education and Resource Center (WERC) in Princeton, WV. Information regarding what to include in the application, eligibility, and necessary prerequisites for consideration are available at www.na.fs.fed.us/werc and www.grants.gov. Individuals who use telecommunication devices for the deaf (TDD) may call the Federal Relay Service (FRS) at 1-800-877-8339 24 hours a day, every day of the year, including holidays.

(A) 2014 Statewide Wood Energy Teams Cooperative Agreement

Summary

The U.S. Forest Service is providing leadership and funding on behalf of a USDA multi-agency Wood to Energy Initiative by offering this request for proposals to support collaborative statewide wood energy teams that advance the installation of commercially viable wood energy systems in the public and private sectors that use woody biomass generated from National Forest System lands and other land ownerships. Public-private statewide teams are invited to seek funding to support the development of geographic and/or sector-based clusters of wood energy projects. Activities may include, but are not limited to: (a) Workshops and assistance that provide technical, financial, and environmental information; (b) preliminary engineering assessments; and (c) community outreach needed to support development of wood energy projects in the public and private sectors. Only proposals for work planned in States that have National Forest System lands will be considered.

DATES: Application deadline is Tuesday, May 20, 2014 at 11:59 p.m.

SUPPLEMENTARY INFORMATION: The agreements awarded pursuant to this announcement may support one or more goals of Public Law 110-234, Food, Conservation, and Energy Act of 2008, Rural Revitalization Technologies (7 U.S.C. 6601); Consolidated Appropriations Act of 2014; and the nationwide challenge of disposing of woody residues from hazardous fuel treatments, other forest management treatments, and manufacturing residuals while expanding renewable energy opportunities in rural areas and markets for ecosystem restoration projects.

Goals of the program are to:

• Promote commercially proven wood energy systems that use woody biomass from National Forest System lands.

• Expand markets that convert woody biomass into energy to support wildfire mitigation, forest restoration, and other forest management goals. Market expansion may include the development of a woody biomass fuel supply, such as fuel pellets and other modified wood fuel products.

• Develop a systematic approach to installing wood energy systems that will support clusters of projects or larger projects that improve the viability of businesses that harvest, process, and deliver wood fuels.

• Support the development or expansion of statewide wood energy teams that provide technical, financial, and environmental information required for developing wood energy projects to reduce the use of fossil fuels, including, but not limited to:

○ Prefeasibility and preliminary engineering assessments.

○ Education and outreach to support the installation of commercially available wood energy systems in the public and private sectors.

○ Innovative approaches to manage and finance wood energy project development.

Cooperative Agreement Requirements

1. Eligibility Information

a. Eligible Applicants. Eligible applicants are State, local, and Tribal governments; nonprofit organizations; or public utilities districts. Applicants may be either or both of the fiscal and administrative agents for the funding.

b. Cost Sharing (Matching Requirement). Applicants must demonstrate at least a 1:1 non-Federal match of the amount received through the Cooperative Agreement. The match amount can be either cash or in-kind contributions. For example, if the Forest Service provides $250,000 through the Cooperative Agreement, $200,000 could be provided in cash and $50,000 could be provided by in-kind contributions from non-Federal partners. In-kind salary contributions from Federal partners in the statewide teams do not qualify as a match.

2. Award Information

Total funding anticipated for awards is approximately $1.7 million for the 2014 Statewide Wood Energy Teams. Individual Cooperative Agreements will not exceed $250,000. No legal obligation on the part of the Federal government will be incurred until appropriated funds are available and committed in writing through a cooperative agreement award letter issued by a Forest Service grant officer to a successful applicant. Cooperative Agreements exist for 3 to 5 years from the date of award. Written performance reports and financial reports will be required and submitted to the appropriate office as described in the final Cooperative Agreement. Ten percent of funding will be held by the administrator of the Cooperative Agreement until final reporting is completed. Cooperative Agreements require Forest Service personnel to have substantial involvement in projects.

3. Application Requirements

This program requires that teams have had prior working experience or demonstrate capacity to form and develop effective working teams immediately upon award of funding. The following are key elements that applicants will need to include in their application submission:

a. Applicants must include a list of each team member; the agencies, organizations, businesses, or interests the team member represents; and why this particular team composition will enable successful implementation of the proposed work plan. Evidence of outreach or description of what has been done to date to incorporate participation from underserved communities must be described. Letters of commitment from individual members or institutions to participate as part of the team should be included in an appendix.

b. Applicants must explain how and why the team was begun and its accomplishments to date. Applicants must describe team management structure and which individuals fill which roles. Proposed teams should describe prior working relationships and accomplishments as a team or demonstrate their capacity to function as an effective team. If a formal strategic or organizational plan exists, then a summary of it can be included in the appendix. In addition, there should be evidence of prior ability to leverage resources and/or a clear plan with experienced individuals assigned that will carry out the team's plan to leverage resources, sufficient at minimum for the 1:1 match requirement.

c. Applicants must include the geographic scope of the team's work. Only proposals for work planned in States that have National Forest System lands will be considered. Most teams will operate statewide. However, if a substate-level team is proposed, the applicant must explain and justify the importance of operating at a smaller geographic scale. Only one team per State will be funded. Proposals that focus most of their work in the following States will not be considered because they have already received substantial SWET funding: Alaska, California, Idaho, Minnesota, and New Hampshire. Multistate proposals will be considered. An applicant can submit individual proposals for multiple States, but must have letters of support from officials in each State.

d. Applicants must include a proposed program of work for the life of the agreement, which could be for a period of 3 to 5 years. The program of work will include a statement of need and specific goals and/or objectives that articulate how the team plans to accomplish the installation of clusters of wood energy projects or larger projects. Geographic and/or sector-based clusters (e.g. hospitals, prisons, inmate conservation camps, school campuses, poultry houses) should leverage similarities and needs of multiple projects to improve economies of scale and expand wood energy. The program of work must include expected timeframes and methods for identifying target areas, outreach to accomplish installations, engineering assessments, financing, sustainability issues, and other tasks as appropriate. This section should also identify potential challenges and uncertainties that could have a significant impact on the program of work.

e. Applicants will estimate the number of systems planned, under construction, and installed for each year and the total length of the agreement period. Systems should be commercially available with a track record of successful operation, not experimental or demonstration systems. If the team has been functioning and has some projects in process, it is appropriate to show how this agreement will facilitate completion of these projects and provide a list of the projects already underway.

4. Application Evaluation

Applications will be evaluated against the criteria discussed in Section 5. All applications will be screened to ensure compliance with the administrative requirements as set forth in this Request for Proposals (RFP). Applications not following the directions for submission will be disqualified without appeal. Directions can be found at http://www.na.fs.fed.us/werc/ under 2014 Statewide Wood Energy Teams.

Applicants are encouraged to consult with the appropriate Forest Service Regional Biomass Coordinator to develop proposals. The nationwide competition will consist of a technical review of the proposed projects by Federal experts or their designees. Panel reviewers independently evaluate each proposal for merit and assign a score using the criteria listed in Section 5. Selected proposals will be submitted to the Forest Service national leadership, who will make the final decision on the selected proposals.

5. Evaluation Criteria and Point System

Reviewers will assign points to each proposal based on its ability to meet the following criteria. A maximum of 100 total points can be earned per proposal.

• Alignment with statewide wood energy team goals identified in the SUPPLEMENTARY INFORMATION of this RFP. (20 points)

• Knowledge and skills of team members and composition of teams. (20 points)

• Team management and leveraged resources. (20 points)

• Program of work, budget, and projected accomplishments. (20 points)

• Communication; outreach; and methodology for announcing, selecting, and providing project assistance. (10 points)

• Geographic and/or sector-based (e.g. campuses, hospitals, prisons, poultry houses) project clusters. (10 points)

6. Application Information

a. Application Submission. Applications must be submitted electronically to the individual email address for the respective Forest Service Regional Biomass Coordinator listed in the ADDRESSES section of this announcement by 11:59 p.m. on May 20, 2014. NO EXCEPTIONS. Paper submittals will not be accepted. If submitted through www.grants.gov, the application must be submitted by 11:59 p.m. on May 20, 2014. Your Forest Service Region is generally determined by the State where the majority of the proposed work will be conducted under the cooperative agreement. In a few instances, two Forest Service regions may exist in one State. Forest Service regions can be located at http://www.fs.fed.us/maps/products/guide-national-forests09.pdf. Consult with the respective Forest Service Regional Biomass Coordinator if you are not certain which Region would apply.

b. Application Format and Content. Each submittal must consist of two separate PDF (or Word) files, as follows:

1. Proposal narrative and appendices (SWET Application Part 1 & Part 2, and Appendices)

2. Financial forms (SWET Application Part 3)

Text must be no smaller than 11 point font. A normal page in an application is defined as 8.5 inches by 11 inches with at least ½-inch margins. Submit all application information at the same time. The application template and financial forms can be found at http://www.na.fs.fed.us/werc under 2014 Statewide Wood Energy Teams.

A complete application includes the following items:

1. SWET Project Application, Part 1: Cooperator Contact Information

2. SWET Project Application, Part 2: Narrative Proposal, Program of Work, and Required Appendices

3. SWET Project Application, Part 3: Financial Forms must include SF-424, SF-424A, SF-424B, AD-1047, AD-1049 (or AD-1052 for States and State agencies), AD-3030, and FS-1500-35 (certificate regarding lobbying activities).

A maximum of 11 pages per proposal for items #1 through #5 listed below will be accepted:

1. Qualifications and Summary Portfolio of Team Members (1.5 pages)

• Include each team member's name, affiliation, and years of experience in wood energy, including combustion technology, wood sourcing, financing, and community outreach.

• Describe outreach to underserved communities or what has been done to incorporate participation from underserved communities.

• Include a description of prior working relationships and accomplishments as a team, including Memoranda of Understanding (MOUs), charters, or other formal agreements.

2. Project Narrative (3.5 pages)

• Describe how the team will be managed and which individuals will fill which roles.

• Describe the team's experience leveraging funds and its plan to leverage funds to support the team's operation and achieve the required 1:1 match.

• Describe methods for selecting areas of focus (e.g. geographic clusters, sector-based clusters, or larger projects to be targeted), including benefits regarding potential economies of scale and increased use of woody biomass.

• Describe methods for solicitation and selection of projects.

• Include the proposed geographic area where the team will work and the number of years requested for the cooperative agreement.

3. Program of Work (3.5 pages)

• Describe statement of need and specific goals and objectives.

• Describe projected accomplishments and deliverables, including estimated number of systems planned, under construction, and installed.

• Describe communication and outreach activities that create social acceptance in communities where projects are targeted.

• Describe monitoring plan, including annual and final reports provided to the agreement administrator, which will include summaries of community outreach activities, preliminary assessments, resource inventories, success stories, etc.

• Describe timeframe for activities described.

4. Budget Summary and Justification in Support of SF-424A (2 pages)

• Address proposed expenditures in relation to the proposed program of work.

• Include cash and in-kind match, other Federal funds and staff time that may help accomplish the program of work, and fee structure for fee-for-services, if planned.

5. Project Outcomes, Annual Progress Reports, and Final Reports (0.5 pages)

• List anticipated project outcomes and accomplishments, as well as desired results.

• Describe types of reports, documents, and success stories that will be provided at the end of the project to be posted to the WERC Statewide Wood Energy Team Web site.

• Annual progress reports are required on an annual calendar year basis. The reports will provide an overview of accomplishments of the goals and objectives described in the approved cooperative agreement narrative.

• A detailed final progress report is required and should include the following items:

○ Final Summary Report—A brief overview of accomplishments of the goals and objectives described in the approved cooperative agreement narrative.

○ Final Accomplishment Report—Includes various assessments, reports, case studies, and related documents that resulted from project activities.

Final reports will be added to the WERC Statewide Wood Energy Team Web site.

7. Appendices

The following information must be included in appendices:

a. Letters of Commitment from Team Members or Institutions: Letters of commitment must be included in an appendix and are intended to display willingness to participate on the wood energy team. These letters must include commitments of cash or in-kind services from all those listed in the SF-424 and SF-424A. Each letter of support is limited to one page in length.

b. Documentation of Team Member or Institution Experience with Wood Energy: Additional information about team member or institutional experience with wood energy should be provided in this appendix.

c. Documentation of Formal Agreements, Charters, etc. (optional): Provide any written formal organizational framework that will guide the operation of the team such as MOUs, State Incorporation papers, or other instruments that establish the capacity and ability of the team to function and manage its actions.

d. Federal Funds: List all other Federal funds received for this Wood Energy Team within the last 3 years; include agency name, program name, and dollar amount.

(B) 2014 Hazardous Fuels Wood to Energy Grant

Summary

The U.S. Forest Service requests proposals for wood energy projects that require engineering services necessary for final design and cost analysis. The Hazardous Fuels Wood to Energy (W2E) Grant Program will fund projects for which some or all the woody biomass is generated from National Forest Service System lands as a result of hazardous fuel treatments, forest restoration activities, insect and disease mitigation, catastrophic weather events, or thinning overstocked stands. Projects that use woody biomass from multiple land ownerships (State, Tribal, or private lands) or multiple sources (wood products facilities, urban wood waste, etc.) will be considered as long as some of the woody biomass is generated from National Forest System lands. Projects that do not anticipate using any wood from National Forest System lands will not be eligible. The woody biomass must be used in commercially proven wood energy systems to produce thermal, electrical, liquid, or gaseous energy. Examples of projects might include, but are not limited to, engineering design of a woody biomass boiler that generates steam at a sawmill, hospital, or school; a nonpressurized hot water system; a biomass power generation facility; or geographic or sector-based clusters of wood energy systems. The lack of a professional engineering design often limits the ability of an applicant to secure Federal, State, or private funding. This program is intended for applicants seeking assistance to complete the necessary engineering design work, including permitting or other preconstruction analyses, required to secure public or private funding for construction of wood energy projects. An example of public funding is the USDA Rural Development grants and loan programs that might help fund construction of such facilities. This year, the W2E grant emphasizes geographic or sector-based clusters (e.g. hospitals, prisons, inmate conservation camps, school campuses, poultry houses) should leverage project similarities to improve economies of scale and expand the use of woody biomass for energy.

DATES: Application deadline is Tuesday, June 3, 2014 at 11:59 p.m.

SUPPLEMENTARY INFORMATION: To address the goals of Public Law 110-234, Food, Conservation, and Energy Act of 2008, Rural Revitalization Technologies (7 U.S.C. 6601) and Consolidated Appropriations Act of 2014, the agency is requesting proposals to address the nationwide challenge of using low-value woody biomass material to create renewable energy and protect communities and critical infrastructure from wildfires.

The goals of the W2E grant program are to:

• Promote projects that target and help remove economic and market barriers to using woody biomass for renewable energy.

• Assist projects that produce renewable energy from woody biomass while protecting the public interest.

• Reduce the public's cost for forest restoration by increasing the value of biomass and other forest products generated from hazardous fuels reduction and forest health activities.

• Create incentives and/or encourage business investments that use woody biomass from our Nation's forest lands for renewable energy projects.

Grant Requirements

1. Eligibility Information

a. Eligible Applicants. Eligible applicants are for-profit organizations; State, local, and Tribal governments; school districts; communities; nonprofit organizations; or special purpose districts (e.g., public utilities districts, fire districts, conservation districts, or ports). Only one application per business or organization will be accepted for this grant.

b. Cost Sharing (Matching Requirement). Applicants must demonstrate at least a 20 percent match of the total project cost. This match must be from non-Federal sources, which can include cash or in-kind contributions.

2. Award Information

Total funding anticipated for awards is approximately $2.8 million for the 2014 W2E program. Individual grants will not exceed $250,000. No legal obligation on the part of the Federal government will be incurred until appropriated funds are available and committed in writing through a grant award letter issued by a Forest Service grant officer to a successful applicant. Grants are typically 2 years from the date of award. Written annual financial performance reports and annual project performance reports are required and must be submitted to the appropriate grant officer. A grant awarded under this program to a for-profit organization will generate an Internal Revenue Service (IRS) Form 1099 Miscellaneous Income that will be filed with the IRS and provided to the awardee. However, the U.S. Forest Service expresses no opinion on the taxability, if any, of the grant funds awarded.

3. Application Requirements

a. Proposal Details. This grant program requires that projects have had considerable advance work completed prior to submitting a grant application. Only applicants that have already completed and submit the following with their application will be considered: (1) Comprehensive Feasibility Assessment of the project by qualified and credible parties, and (2) Woody Biomass Resource Supply Assessment.

1. The Feasibility Assessment must address, at minimum, the following items:

• Economic feasibility analysis of the entire project, including site assessment, labor force wages and availability, utilities, access and transportation systems, and raw material feedstock needs. The analysis must include the overall economic impact, such as jobs created and retained on a full-time equivalent basis displayed by employment associated with operating the facility itself and supplying the facility. The analysis must also include a market feasibility study that analyzes market(s) for power, heat, fuel, or other energy product produced; market area; marketing plans for projected output, if needed; extent of competition for the particular target market(s); extent of competition for supply; delivered costs; and general characterization of supply availability (more detailed information is provided in the Woody Biomass Resource Supply Assessment section).

• Technical feasibility analysis that includes assessment of the recommended renewable energy technology, other technologies considered, why the recommended renewable energy technology was chosen, site suitability given the recommended renewable energy technology, actions and costs necessary to mitigate environmental impacts sufficient to meet regulatory requirements, developmental costs, capital investment costs, operational costs, projected income, estimated accuracy of these costs and income projections, sensitivity analysis with clear and explicit assumptions, and identification of project constraints or limitations.

• Financial feasibility analysis that includes projected income and cash flow for at least 36 months, description of cost accounting system, availability of short-term credit for operational phase, and pro forma financial statement with clear and explicit assumptions.

• List of personnel and teams undertaking project development, implementation, and operations, including a clear description of how continuity between project phases will be maintained. Describe the qualification of each team member including relevant education and management experience with the same or similar projects and how recently this experience occurred.

2. The Woody Biomass Resource Supply Assessment must provide a description of the potential woody biomass supply, including an estimate of the portion coming from National Forest System lands. At a minimum, the assessment should address each of the following items:

• Feedstock location and procurement area relative to the project site.

• Types of biomass fuel available and realistic pricing information based on fuel specifications required by the technology chosen, including explicit breakout of forest-sourced, agricultural-sourced, and urban-sourced biomass.

• Volume potentially available by ownership, fuel type, and source of biomass supply, considering recovery rates and other factors, such as Federal, State, and local policy and management practices. Specifically state the percentage of estimated volumes coming from National Forest System lands.

• Risk assessment of future biomass fuel supply including, but not limited to, impacts of potential Federal, State, and local policy changes; availability of additional fuel types; increased competition for biomass resource supply; and changes in transportation costs.

• Summary of estimated annual woody biomass that is available versus projected annual fuel use (i.e. a ratio usually exceeding 2:1).

• Minimum 5-year biomass fuel pricing forecast for material or blend of material meeting fuel specifications delivered to project site (required for financial pro forma).

b. Creditworthiness Requirements. For-profit and nonprofit organization applicants must have a Dun and Bradstreet rating that falls within the following categories:

1. Financial stress rating should be 1, 2, or 3 (1 being the best and 5 being the worst)

2. Credit score should be 1, 2, or 3 (1 being the best and 5 being the worst)

3. Paydex score should be between 60 and 100 (0 being the lowest and 100 the highest)

Corporate annual reports will not be accepted as evidence of due diligence for a business.

Before successful proposals can be funded, the applicant must first obtain a DUNS number from Dun & Bradstreet, and then register their organization at the System for Award Management Web site: www.sam.gov (formerly Central Contracting Registration). To verify that the organization has a DUNS number, or to take steps needed to obtain one, the applicant may call the dedicated toll-free DUNS number request line at (866) 705-5711, or go to http://www.dunandbradstreet.com. Applications submitted through www.grants.gov will not be accepted without a DUNS number.

4. Application Evaluation

Applications are evaluated against criteria discussed in Section 5. All applications will be screened to ensure compliance with the administrative requirements as set forth in this RFP. Applications not following the directions for submission will be disqualified without appeal. Directions can be found at www.na.fs.fed.us/werc/ under 2014 Wood to Energy Grant Program. The appropriate Forest Service Region will provide a preliminary review based on grant administrative requirements and regional priorities of environmental, social, and economic impacts. Each region may submit up to 7 proposals for the nationwide competition, which will consist of a technical review of the proposed project by Federal experts or their designees from different Federal agencies who are experienced in energy systems, financing projects, or forestry. Panel reviewers will independently evaluate each proposed project for merit and assign a score using the criteria listed in Section 5. Technical merits, along with the regional priorities, will be submitted to the Forest Service national leadership for final selection and announcement.

5. Evaluation Criteria and Point System

If a reviewer determines that a proposal meets basic requirements for a criterion, half the number of points will be awarded. More points can be earned if the reviewer determines that a proposal exceeds the basic criteria and fewer if a proposal falls short of the basic criteria. A maximum of 100 total points can be earned by a proposal, as illustrated below:

• Feasibility assessment shows economic viability for the proposed project. (20 points)

• Woody Biomass Resource Supply Assessment demonstrates: (1) An adequate long-term supply of wood to satisfy lender or public financing requirements, and (2) the degree to which the project supports hazardous fuel reduction or forest health management needs on National Forest System lands. (20 points)

• Demonstrates appropriate partnering, technical expertise, and financial health of applicant. (20 points)

• Presents a realistic timeline, scope, and project accomplishments. (20 points)

• Includes geographic or sector-based clusters (e.g. campuses, hospitals, prisons, poultry houses). (20 points)

6. Application Information

a. Application Submission. Applications must be submitted electronically to the individual email address for the respective Forest Service Regional Biomass Coordinator listed in the ADDRESSES section of this announcement by 11:59 p.m. on June 3, 2014. NO EXCEPTIONS. Paper submittals will not be accepted. If submitted through www.grants.gov, the application must be submitted by 11:59 p.m. on June 3, 2014. Your Forest Service Region is generally determined by the State where the majority of the proposed work will be conducted under the grant. In a few instances, two Forest Service regions may exist in one State. Forest Service regions can be located at http://www.fs.fed.us/maps/products/guide-national-forests09.pdf. Consult with the respective Forest Service Regional Biomass Coordinator if you are not certain which Region would apply.

b. Application Format and Content. Each submittal must consist of two separate PDF (or Word) files, as follows:

1. Proposal narrative and appendices (W2E Application Part 1 & Part 2, and Appendices)

2. Financial forms (W2E Application Part 3)

Text must be no smaller than 11 point font. A normal page in an application is defined as 8.5 inches by 11 inches with at least ½-inch margins. Submit all application information at the same time. The application template and financial forms can be found at http://www.na.fs.fed.us/werc/ under 2014 Wood to Energy Grants.

A complete application includes the following items:

1. W2E Project Application, Part 1: Cooperator Contact Information

2. W2E Project Application, Part 2: Narrative Proposal and Required Appendices

3. W2E Project Application, Part 3: Financial Forms must include SF-424, SF-424A, SF-424B, AD-1047, AD-1049 (or AD-1052 for States and State agencies), AD-3030, and FS-1500-35 (certificate regarding lobbying activities).

A maximum of 15 pages per proposal for items #1 through #4 listed below will be accepted:

1. Project Narrative (10 pages)

The project narrative must provide a clear description of the work to be performed; impact from removing woody biomass and creating renewable energy, especially how it benefits National Forest System lands (e.g. tons of biomass removed that would have otherwise been burned, cost savings to landowners, source of biomass removed from forested areas broken out by ownership); how jobs will be created, retained, and sustained; and how geographic or sector-based clusters will be incorporated into the project. Application narrative should address the discussion areas listed in the W2E Application, Part 2.

2. Budget Summary Justification in Support of SF-424A (2 pages)

3. Qualifications and Summary Portfolio of Engineering Services (2 pages)

For the engineering systems, the project usually consists of a system designer, project manager, equipment supplier, project engineer, construction contractor of system installer, and a system operator and maintainer. One individual or entity may serve more than one role. The project team must have demonstrated expertise in similar wood energy systems development, engineering, installation, and maintenance. The application must include authoritative evidence that project team service providers have the necessary professional credentials or relevant experience to perform the required services and that vendors of proprietary components can provide necessary equipment and spare parts for the system to operate over its design life. A list of the same or similar projects designed, installed, and currently operating must be provided along with appropriate contacts.

4. Community Benefit Statement (1 page)

Provide a one-page narrative on social, environmental, and economic impact and importance of project to community. Examples include, but are not limited to, fossil fuel offsets, jobs created, community support, fuel savings, forest management benefits, or local businesses supported.

7. Appendices

The following information must be included in appendices:

a. Comprehensive Feasibility Assessment.

b. Woody Biomass Resource Supply Assessment.

c. Quotes for Professional Engineering Services (minimum of two quotes): Rationale for selection of engineering firm, if already selected.

d. Letters of Support from Partners, Individuals, or Organizations: Letters of support are intended to display the degree of collaboration occurring between the different entities engaged in the project. These letters must include partner commitments of cash or in-kind services from all those listed in the SF-424 and SF-424A.

e. Miscellaneous, such as schematics.

f. Federal Funds: List all other Federal funds received for this project within the last 3 years. List agency, program name, and dollar amount.

Documentation exceeding the designated page limit requirements for any given section will not be considered.

Dated: March 4, 2014.
James Hubbard,
Deputy Chief, State and Private Forestry.

[FR Doc. 2014-08778 Filed 4-21-14; 8:45 am]

BILLING CODE 3411-15-P